DEPARTMENT OF TRANSPORTATION

Federal Aviation Administration

Notice of Meeting of the National Parks Overflights Advisory Group Aviation Rulemaking Committee

ACTION: Notice of meeting.

SUMMARY: The National Park Service (NPS) and Federal Aviation Administration (FAA), in accordance with the National Parks Air Tour Management Act of 2000, announce the next meeting of the National Parks Overflights Advisory Group Aviation Rulemaking Committee (NPOAG ARC). The meeting will take place on September 9 and 10, 2004, at the Wilderness Society, 1615 M Street, NW., Washington, DC. This notice informs the public of the date, location, and agenda for the meeting.

DATES AND LOCATION: The NPOAG ARC will meet September 9-10, 2004, at the Wilderness Society, 1615 M Street, NW., Washington, DC. The meeting will begin at 8:00 a.m. on Thursday, September 9, 2004.

FOR FURTHER INFORMATION CONTACT: Barry Brayer, Manager, Executive Resource Staff, Western Pacific Region, Federal Aviation Administration, 15000 Aviation Blvd., Hawthorne, CA 90250, telephone: (310) 725-3800, or Barry.Brayer@faa.gov, or Karen Trevino, National Park Service, Natural Sounds Program, 1201 Oakridge Dr., Suite 350, Ft. Collins, CO, 80525, telephone (970) 225-3563, or Karen_Trevino@nps.gov.

SUPPLEMENTARY INFORMATION:

Background

The National Parks Air Tour Management Act of 2000, enacted on April 5, 2000, as Public Law 106-181 (Pub. L. 106-181), required the establishment of a National Parks Overflights Advisory Group within 1 year after its enactment. The NPOAG was to be a balanced group representative of general aviation, commercial air tour operations, environmental concerns, and Indian tribes. The duties of the NPOAG included providing advice, information, and recommendations to the Director, NPS, and to the Administrator, FAA, on the implementation of Public Law 106-181, on quiet aircraft technology, on other measures that might accommodate interests to visitors to national parks, and, at the request of the Director and Administrator, on safety, environmental, and other issues related to commercial air tour operations over national parks or tribal lands.

On March 12, 2001, the FAA and NPS announced the establishment of the NPOAG (48 FR 14429). The advisory group has held four meetings: August 28-29, 2001, in Las Vegas, Nevada; October 4-5, 2002, in Tusayan, Arizona; October 20-21, 2003 in Jackson, Wyoming; and March 18-19, 2004, in Boulder City, NV.

On October 10, 2003, the Administrator signed Order No. 1110-138 establishing the NPOAG as an aviation rulemaking committee. The current members of the NPOAG ARC are Heidi Williams (general aviation), Richard Larew, Elling Halverson, and Alan Stephen (commercial air tour operations), Chip Dennerlein, Charles Maynard, Steve Bosak, and Susan Gunn (environmental interests), and Germaine White and Richard Deertrack (Indian tribes).

Agenda for the September 9-10, 2004 Meeting

The NPOAG ARC will review tribal issues, prevention and mitigation of significant adverse environmental impacts, modifications to interim operating authority, new entrant operators and increased operations of existing operators, and quiet technology. A final agenda will be available the day of the meeting.

Attendance at the Meeting

Although this is not a public meeting, interested persons may attend. Because seating is limited, if you plan to attend, please contact one of the persons listed under FOR FURTHER INFORMATION CONTACT so that meeting space may accommodate your attendance.

Record of the Meeting

If you cannot attend the meeting, a summary record of the meeting will be made available by the Office of Rulemaking (ARM), 800 Independence Ave., SW., Washington, DC 20591. Contact is Linda Williams, (202) 267-9685, or linda.l.williams@faa.gov.

Issued in Washington, DC, on August 6, 2004.
James J. Ballough,
Director, Flight Standards Service.

[FR Doc. 04-18488 Filed 8-12-04; 8:45 am]

BILLING CODE 4910-13-P